DEPARTMENT OF TRANSPORTATION

Federal Aviation Administration

14 CFR Part 39

[Docket No. 2001-NM-222-AD; Amendment 39-12551; AD 2001-24-34]

RIN 2120-AA64

Airworthiness Directives; McDonnell Douglas Model DC-8-70 Series Airplanes

AGENCY: Federal Aviation Administration, DOT.

ACTION: Final rule.

SUMMARY: This amendment supersedes an existing airworthiness directive (AD), applicable to all McDonnell Douglas Model DC-8-70 series airplanes, that currently requires repetitive inspections and repair or replacement, if necessary, of the generator power feeder cables, supporting brackets, and clamps at all the engine pylons. This amendment requires accomplishment of a terminating action for the repetitive inspections. This amendment also requires replacement of the support clamps of the generator power feeder cable on engine nacelles/pylons 1, 2, 3, and 4 with new support clamps. This amendment is prompted by the FAA's determination that further rulemaking is necessary. The actions specified by this AD are intended to prevent a fire on the ground if a fuel leak exists in an engine pylon.

DATES: Effective January 16, 2002.

The incorporation by reference of certain publications listed in the regulations is approved by the Director of the Federal Register as of January 16, 2002.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the the FAA, Los Angeles Aircraft Certification Office, 3960 Paramount Boulevard, Lakewood, California; or at the Office of the Federal Register, 800 North Capitol Street, NW., suite 700, Washington, DC.

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION: A proposal to amend part 39 of the Federal Aviation Regulations (14 CFR part 39) by superseding AD 88-11-03, amendment 39-5922 (53 FR 17018, May 13, 1988), which is applicable to all McDonnell Douglas Model DC-8-70 series airplanes, was published in the Federal Register on July 23, 2001 (66 FR 38220). The action proposed to continue to require repetitive inspections and repair or replacement, if necessary, of the generator power feeder cables, supporting brackets, and clamps at all the engine pylons. The action also proposed to require accomplishment of a terminating action for the repetitive inspections, and replacement of the support clamps of the generator power feeder cable on engine nacelles/pylons 1, 2, 3, and 4 with new support clamps.

Comments

Interested persons have been afforded an opportunity to participate in the making of this amendment. No comments were submitted in response to the proposal or the FAA's determination of the cost to the public.

Conclusion

The FAA has determined that air safety and the public interest require the adoption of the rule as proposed.

Cost Impact

There are approximately 108 Model DC-8-70 series airplanes of the affected design in the worldwide fleet. The FAA estimates that 98 airplanes of U.S. registry will be affected by this AD.

The inspection that is currently required by AD 88-11-03, and retained in this AD, takes approximately 12 work hours per airplane to accomplish, at an average labor rate of $60 per work hour. Based on these figures, the cost impact of the currently required actions on U.S. operators is estimated to be $70,560, or $720 per airplane, per inspection cycle.

The new replacement specified in McDonnell Douglas DC-8-70 Service Bulletin 24-72, dated January 14, 1992, that is required in this AD will take approximately 3 work hours per airplane to accomplish, at an average labor rate of $60 per work hour. Required parts will cost approximately $675 per airplane. Based on these figures, the cost impact of this replacement required by this AD on U.S. operators is estimated to be $83,790, or $855 per airplane.

The new inspection and application of sealants specified in McDonnell Douglas DC-8-70 Service Bulletin 24-71, Revision 1, dated February 25, 1991, that are required in this AD will take approximately 5 work hours per airplane to accomplish, at an average labor rate of $60 per work hour. Based on these figures, the cost impact of the inspection and application of sealants required by this AD on U.S. operators is estimated to be $29,400, or $300 per airplane.

The new replacement specified in McDonnell Douglas DC-8-70 Service Bulletin 24-73, dated May 30, 1990, that is required in this AD will take approximately 16 work hours per airplane to accomplish, at an average labor rate of $60 per work hour. Required parts will cost approximately $715 per airplane. Based on these figures, the cost impact of this replacement required by this AD on U.S. operators is estimated to be $164,150, or $1,675 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-5922 (53 FR 17018, May 13, 1988), and by adding a new airworthiness directive (AD), amendment 39-12551, to read as follows:

2001-24-34 McDonnell Douglas: Amendment 39-12551. Docket 2001-NM-222-AD. Supersedes AD 88-11-03, Amendment 39-5922.

Applicability: All Model DC-8-70 airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Required as indicated, unless accomplished previously.

To prevent a fire on the ground if a fuel leak exists in an engine pylon, accomplish the following:

Restatement of Requirements of AD 88-11-03

Repetitive Inspections, Verification, and Corrective Actions, if Necessary

(a) Within 30 days after June 3, 1988 (the effective date of AD 88-11-03, amendment 39-5922), unless previously accomplished within the last 3,500 flight hours, inspect the generator power feeder cables, support brackets, and clamps between bulkhead feed-through at station YN=278.500 and terminal strip S3-7000 at engine pylons 1, 2, 3, and 4, for evidence of arcing, burning, chafing, damage, or cable droop, in accordance with the Accomplishment Instructions of McDonnell Douglas DC-8-70 Alert Service Bulletin A24-72, dated April 6, 1988.

(1) If no evidence of arcing, burning, chafing, damage, or drooping exists, proceed to paragraph (a)(3) of this AD.

(2) If any evidence of arcing, burning, chafing, damage, or drooping exists, prior to further flight, repair or replace parts, as required, in accordance with the service bulletin.

(3) Verify that the nuts securing cable terminals to terminal strip S3-7000 are tightened to a torque of 120 to 130 inch-pounds.

Repetitive Inspection Interval

(b) Repeat the procedures specified in paragraph (a) of this AD at intervals not to exceed 3,500 flight hours.

New Actions Required by This AD

Terminating Actions for Repetitive Inspections and Verification

(c) Within 1 year after the effective date of this AD, replace the support clamps of the generator power feeder cable on engine pylons 1, 2, 3, and 4 with new support clamps, in accordance with McDonnell Douglas DC-8-70 Service Bulletin 24-72, dated January 14, 1992. The requirements of paragraphs (a)(1) and (a)(2) of this AD must be done prior to or in conjunction with the requirements of this paragraph.

(d) Within 1 year after the effective date of this AD, do the actions specified in paragraphs (d)(1) and (d)(2) of this AD in accordance with McDonnell Douglas DC-8-70 Service Bulletin 24-71, Revision 1, dated February 25, 1991. The requirements of paragraph (a)(3) of this AD must be done prior to or in conjunction with the requirements of this paragraph.

(1) Do a general visual inspection of the terminal strip of the terminal connections of the generator power feeder cable for general condition (i.e., loose connections) and to verify that the ground studs are tight and that the nuts securing the cable terminals to the terminal strip are tightened to a torque of 120 to 130 inch-pound, in accordance with the service bulletin. If any terminal connection is loose, not tight, or torqued improperly, prior to further flight, tighten terminal connection in accordance with the service bulletin.

Note 2: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(2) Apply a coat of certain sealants per Figure 1 of the service bulletin.

(e) Accomplishment of the actions required by paragraphs (c) and (d) of this AD constitute terminating action for the requirements of paragraphs (a) and (b) of this AD.

Replacement of Certain Support Clamps

(f) Within 1 year after the effective date of this AD, replace the support clamps of the generator power feeder cable in the forward pylon on engine nacelles 1, 2, 3, and 4 with new support clamps, in accordance with McDonnell Douglas DC-8-70 Service Bulletin 24-73, dated May 30, 1990.

Alternative Methods of Compliance

(g) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(h) Special flight permits may be issued in accordance with sections 21.197 and 21.199 of the Federal Aviation Regulations (14 CFR 21.197 and 21.199) to operate the airplane to a location where the requirements of this AD can be accomplished.

Incorporation by Reference

(i) The actions shall be done in accordance with of McDonnell Douglas DC-8-70 Alert Service Bulletin A24-72, dated April 6, 1988; McDonnell Douglas DC-8-70 Service Bulletin 24-72, dated January 14, 1992; McDonnell Douglas DC-8-70 Service Bulletin 24-71, Revision 1, dated February 25, 1991; and McDonnell Douglas DC-8-70 Service Bulletin 24-73, dated May 30, 1990; as applicable. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the the FAA, Los Angeles Aircraft Certification Office, 3960 Paramount Boulevard, Lakewood, California; or at the Office of the Federal Register, 800 North Capitol Street, NW., suite 700, Washington, DC.

Effective Date

(j) This amendment becomes effective on January 16, 2002.

Issued in Renton, Washington, on November 28, 2001.
Vi L. Lipski,
Manager, Transport Airplane Directorate, Aircraft Certification Service.

[FR Doc. 01-30210 Filed 12-11-01; 8:45 am]

BILLING CODE 4910-13-P